DEPARTMENT OF COMMERCE

Foreign-Trade Zones Board

[B-74-2017]

Foreign-Trade Zone (FTZ) 204—Tri-Cities, Tennessee; Authorization of Production Activity; Eastman Chemical Company (Acetic Anhydride and Acetic Acid); Kingsport, Tennessee

On November 21, 2017, the Tri-Cities Airport Authority, grantee of FTZ 204, submitted a notification of proposed production activity to the FTZ Board on behalf of Eastman Chemical Company, within Site 12, in Kingsport, Tennessee.

The notification was processed in accordance with the regulations of the FTZ Board (15 CFR part 400), including notice in the Federal Register inviting public comment (82 FR 56212, November 28, 2017). On March 22, 2018, the applicant was notified of the FTZ Board's decision that no further review of the activity is warranted at this time. The production activity described in the notification was authorized, subject to the FTZ Act and the FTZ Board's regulations, including Section 400.14.

Dated: March 23, 2018.
Andrew McGilvray,
Executive Secretary.

[FR Doc. 2018-06348 Filed 3-28-18; 8:45 am]

BILLING CODE 3510-DS-P